DEPARTMENT OF TRANSPORTATION

National Highway Traffic Safety Administration

[NHTSA Docket No. NHTSA-2008-0126]

National EMS Advisory Council; Notice of Federal Advisory Committee Meeting

AGENCY: National Highway Traffic Safety Administration (NHTSA), DOT.

ACTION: National EMS Advisory Council; Notice of Federal Advisory Committee Meeting.

SUMMARY: NHTSA announces a meeting of the National Emergency Medical Services Advisory Council (NEMSAC) to be held in the Metropolitan Washington, DC area. This notice announces the date, time and location of the meeting, which will be open to the public. The purpose of NEMSAC is to provide a nationally recognized council of emergency medical services representatives and consumers to provide advice and recommendations regarding EMS to the U.S. DOT's National Highway Traffic Safety Administration (NHTSA).

DATES: The meeting will be held on July 17, 2008, from 9 a.m. to 5 p.m. and July 18, 2008, from 9 a.m. to Noon. A public comment period will take place on July 18, 2008, between 10:45 a.m. and 11:15 a.m.

Comment Date: Written comments or requests to make oral presentations must be received by July 10, 2008.

ADDRESSES: The meeting will be held at the Marriott Crystal City at Reagan National Airport, 1999 Jefferson Davis Highway, Arlington, VA 22202. Persons wishing to make an oral presentation or who are unable to attend or speak at the meeting may submit written comments. Written comments and requests to make oral presentations at the meeting should reach Drew Dawson at the address listed below and must be received by July 10, 2008.

All submissions received must include the docket number, NHTSA-2008-0126 and may be submitted by any one of the following methods:

You may submit or retrieve comments online through the Document Management System (DMS) at http://www.regulations.gov/ under the docket number listed at the beginning of this notice. The DMS is available 24 hours each day, 365 days each year. Electronic submission and retrieval help guidelines are available under the help section of the Web site.

An electronic copy of this document may be downloaded from the Federal Register's home page at http://www.archives.gov and the Government Printing Office's database at http://www.access.gpo.gov/nara.

Please note that even after the comment closing date, we will continue to file relevant information in the docket as it becomes available.

E-mail: drew.dawson@dot.gov or susan.mchenry@dot.gov.

Fax: (202) 366-7149.

FOR FURTHER INFORMATION CONTACT: Drew Dawson, Director, Office of Emergency Medical Services, National Highway Traffic Safety Administration, 1200 New Jersey Avenue, SE., NTI-140, Washington, DC 20590, Telephone number (202) 366-9966; E-mail Drew.Dawson@dot.gov.

SUPPLEMENTARY INFORMATION: Notice of this meeting is given under the Federal Advisory Committee Act (FACA), Public Law 92-463, as amended (5 U.S.C. App. 1 et seq.) The NEMSAC will be holding its second meeting on Thursday and Friday, July 17 and 18, 2008, at the Marriott Crystal City at Reagan National Airport, 1999 Jefferson Davis Highway, Arlington, VA 22202.

Agenda of Council Meeting, July 17-18, 2008

The tentative agenda includes the following:

Thursday, July 17, 2008

(1) Opening Remarks and Swearing in of members not in attendance at first meeting;

(2) Introduction of Members and all in attendance;

(3) Review and Approval of Minutes of last meeting;

(4) Discussion of process for prioritizing EMS Issues identified at first meeting;

(5) Voting on priority EMS Issues;

(6) Discussion of potential committees and committee charges.

Friday, July 18, 2008

(1) Welcome and Introductions;

(2) Unfinished Business from July 17th;

(3) Federal Interagency Committee on Emergency Medical Services Report;

(4) New Issues or Concerns;

(5) Public comment period;

(6) Next steps and future meetings.

A public comment period will take place on July 18, 2008, between 10:45 a.m. and 11:15 a.m.

Public Attendance: The meeting is open to the public. Persons with disabilities who require special assistance should advise Drew Dawson of their anticipated special needs as early as possible. Members of the public who wish to make comments on Friday, July 18 between 10:45 a.m. and 11:15 a.m. are requested to register in advance. In order to allow as many people as possible to speak, speakers are requested to limit their remarks to 3 minutes. For those wishing to submit written comments, please follow the procedure noted above.

This meeting will be open to the public. Individuals wishing to register must provide their name, affiliation, phone number, and e-mail address to Drew Dawson by e-mail at drew.dawson@dot.gov or by telephone at (202) 366-9966 no later than July 10, 2008. There will be limited seating, so please register early. Pre-registration is necessary to enable proper arrangements.

Minutes of the NEMSAC Meeting will be available to the public online through the DOT Document Management System (DMS) at: http://www.regulations.gov under the docket number listed at the beginning of this notice.

Issued on: June 27, 2008.
Jeffrey P. Michael,
Acting Associate Administrator for Research and Program Development.

[FR Doc. E8-15056 Filed 7-2-08; 8:45 am]

BILLING CODE 4910-59-P